NATIONAL CREDIT UNION ADMINISTRATION

12 CFR Parts 708a and 708b

RIN 3133-AD84; 3133-AD85

Conversions of Insured Credit Unions

AGENCY: National Credit Union Administration (NCUA).

ACTION: Interim final rule with request for comments.

SUMMARY: NCUA is issuing final amendments to revise the definition of the phrase “Regional Director” in NCUA's rule on credit union to mutual savings bank conversions and to add the same revised definition of that phrase to NCUA's rule on conversions to nonfederal deposit insurance.

DATES: The rule is effective December 23, 2010. Comments must be received by January 24, 2011.

ADDRESSES: You may submit comments by any of the following methods (Please send comments by one method only):

Federal eRulemaking Portal: http://www.regulations.gov. Follow the instructions for submitting comments.

NCUA Web site: http://www.ncua.gov/Resources/RegulationsOpinionsLaws/FinalRegulations.aspx. Follow the instructions for submitting comments.

E-mail: Address to regcomments@ncua.gov. Include “[Your name] Comments on “Interim Final Rulemaking for Parts 708a and 708b—Definition of “Regional Director” in the e-mail subject line.

Fax: (703) 518-6319. Use the subject line described above for e-mail.

Mail: Address to Mary Rupp, Secretary of the Board, National Credit Union Administration, 1775 Duke Street, Alexandria, Virginia 22314-3428.

Hand Delivery/Courier: Same as mail address.

Public Inspection: All public comments are available on the agency's Web site at http://www.ncua.gov/Resources/RegulationsOpinionsLaws/FinalRegulations.aspx as submitted, except as may not be possible for technical reasons. Public comments will not be edited to remove any identifying or contact information. Paper copies of comments may be inspected in NCUA's law library at 1775 Duke Street, Alexandria, Virginia 22314, by appointment weekdays between 9 a.m. and 3 p.m. To make an appointment, call (703) 518-6546 or send an e-mail to OGCMail@ncua.gov.

FOR FURTHER INFORMATION CONTACT: Jacqueline Lussier, Staff Attorney, Office of General Counsel, at the address above or telephone (703) 518-6540.

SUPPLEMENTARY INFORMATION:

Background

In 2009, the NCUA Board created the NCUA Office of Consumer Protection (OCP) to become operational on January 1, 2010. The OCP is charged with responsibilities in the areas of credit union chartering, insurance and supervision, as well as consumer compliance. NCUA is in the process of moving responsibility for the review and approval of certain types of credit union conversions from the Regional Directors to the Director of the OCP, including credit union conversions to mutual savings banks or mutual savings associations (MSBs) in 12 CFR part 708a and the conversion from National Credit Union Share Insurance Fund (NCUSIF) share insurance to nonfederal share insurance in 12 CFR part 708b. To accommodate this reassignment of staff functions, the NCUA Board is adding the Director of the OCP to the definition of the phrase “Regional Director” in part 708a and adding a new definition of the phrase “Regional Director” to part 708b that mirrors the revised definition in part 708a.

Part 708a

Part 708a governs conversions of federally-insured credit unions to MSBs. The definitions under part 708a are set forth in § 708a.1. 12 CFR 708a.1. Section 708a.1 currently defines the phrase “Regional Director” as the director of the NCUA regional office where a natural person credit union's main office is located, and for corporate credit unions, “Regional Director” means the director of NCUA's Office of Corporate Credit Unions. This final rule amends the definition of “Regional Director” for natural person credit unions to include the Director of OCP.

Part 708b

Part 708b governs credit union-to-credit union mergers and terminations of NCUSIF share insurance and conversions from NCUSIF share insurance to nonfederal share insurance. The definitions under part 708b are set forth in § 708b.2. 12 CFR 708b.2. Unlike part 708a, part 708b does not currently contain a definition of “Regional Director.” This final rule amends part 708b to add a definition of that phrase to § 708b.2 identical to the parallel definition in part 708a.

Interim Final Rule

NCUA is issuing this rulemaking as an interim final rule effective upon publication in the Federal Register. The Administrative Procedure Act (APA), 5 U.S.C. 553, generally requires that before a rulemaking can be finalized it must first be published as a notice of proposed rulemaking with the opportunity for public comment, unless the agency for good cause finds that notice and public comment are impracticable, unnecessary, or contrary to the public interest. NCUA believes good cause exists for issuing these amendments without notice and public comment. The amendments to these rules are not substantive but merely update the regulations to provide NCUA with additional administrative flexibility.

Additionally, the APA requires that a final rule must have a delayed effective date of 30 days from the date of publication, except for good cause. 5 U.S.C. 553(d). NCUA also finds good cause to waive the customary 30-day delayed effective date requirement under the APA. These revisions will, therefore, be effective immediately upon publication.

NCUA does not anticipate comments on these changes and so is allowing only a 30-day comment period.

Regulatory Procedures

Regulatory Flexibility Act

The Regulatory Flexibility Act requires NCUA to prepare an analysis to describe any significant economic impact a proposed rule may have on a substantial number of small credit unions (those under $10 million in assets). Only a few credit unions convert in a given year. Accordingly, the NCUA Board certifies that the interim final rule will not have a significant economic impact on a substantial number of small credit unions, and, therefore, a regulatory flexibility analysis is not required.

Paperwork Reduction Act

The Paperwork Reduction Act of 1995 (PRA) applies to rulemakings in which an agency by rule creates a new paperwork burden on regulated entities or modifies an existing burden. 44 U.S.C. 3507(d). For purposes of the PRA, a paperwork burden may take the form of either a reporting or a recordkeeping requirement, both referred to as information collections. The revised definition does not impose any new paperwork burden.

Executive Order 13132

Executive Order 13132 encourages independent regulatory agencies to consider the impact of their actions on state and local interests. In adherence to fundamental federalism principles, NCUA, an independent regulatory agency as defined in 44 U.S.C. 3502(5), voluntarily complies with the executive order. The interim final rule will not have substantial direct effects on the states, on the connection between the national government and the states, or on the distribution of power and responsibilities among the various levels of government. NCUA has determined that this rule does not constitute a policy that has federalism implications for purposes of the executive order.

The Treasury and General Government Appropriations Act, 1999—Assessment of Federal Regulations and Policies on Families

NCUA has determined that the interim final rule will not affect family well-being within the meaning of section 654 of the Treasury and General Government Appropriations Act, 1999, Public Law 105-277, 112 Stat. 2681 (1998).

Small Business Regulatory Enforcement Fairness Act

The Small Business Regulatory Enforcement Fairness Act of 1996, Public Law 104-121, provides generally for congressional review of agency rules. A reporting requirement is triggered in instances where NCUA issues a final rule as defined by section 551 of the Administrative Procedure Act, 5 U.S.C. 551. While NCUA views these revisions as minor, the formal determination by the Office of Information and Regulatory Affairs of the Office of Management and Budget is pending.

List of Subjects

12 CFR Part 708a

Charter conversions, Credit unions.

12 CFR Part 708b

Credit unions, Mergers of credit unions, Reporting and recordkeeping requirements.

By the National Credit Union Administration Board on December 20, 2010.
Mary F. Rupp,
Secretary of the Board.

For the reasons stated in the preamble, the National Credit Union Administration amends 12 CFR parts 708a and 708b as follows:

PART 708a—CONVERSION OF INSURED CREDIT UNIONS TO MUTUAL SAVINGS BANKS

1. The authority citation for part 708a continues to read as follows:

Authority: 12 U.S.C. 1766, 12 U.S.C. 1785(b).

2. Amend § 708a.1 to add a definition of regional director in alphabetical order to read as follows:

§ 708a.1 Definitions.

* * * * *

Regional director means either the director of the NCUA regional office for the region where a natural person credit union's main office is located or the director of the NCUA's Office of Consumer Protection. For corporate credit unions, regional director means the director of NCUA's Office of Corporate Credit Unions.

* * * * *

PART 708b—MERGERS OF FEDERALLY INSURED CREDIT UNIONS; VOLUNTARY TERMINATION OR CONVERSION OF INSURED STATUS

3. The authority citation for part 708b continues to read as follows:

Authority: 12 U.S.C. 1752(7), 1766, 1785, 1786, 1789.

4. In § 708b.2, redesignate paragraphs (h) through (k) as paragraphs (i) through (l) and add new paragraph (h) to read as follows:

§ 708b.2 Definitions.

* * * * *

(h) Regional director means either the director of the NCUA regional office for the region where a natural person credit union's main office is located or the director of the NCUA's Office of Consumer Protection. For corporate credit unions, regional director means the director of NCUA's Office of Corporate Credit Unions.

* * * * *

[FR Doc. 2010-32308 Filed 12-22-10; 8:45 am]

BILLING CODE 7535-01-P